DEPARTMENT OF THE INTERIOR

Fish and Wildlife Service

[FWS-R8-ES-2014-N068; FXES11120800000F2-145-FF08ECAR00]

Incidental Take Permit Application and Draft Environmental Assessment for the Proposed West Valley Habitat Conservation Plan, City of Colton, San Bernardino County, California

AGENCY: Fish and Wildlife Service, Interior.

ACTION: Notice of availability.

SUMMARY: This notice advises the public that we, the U.S. Fish and Wildlife Service (Service), have received an application for an incidental take permit pursuant to section 10(a)(1)(B) of the Endangered Species Act of 1973, as amended (Act), from the City of Colton (City), San Bernardino County, California. The Service, in cooperation and coordination with the City, has prepared a draft environmental assessment (EA) under the National Environmental Policy Act (NEPA) for the City's permit application and proposed West Valley Habitat Conservation Plan (HCP). We have prepared the draft EA to analyze the impacts of the Service's proposed issuance of the requested permit for incidental take of the Delhi Sands flower-loving fly. The draft EA considers the environmental effects associated with the City's implementation of the proposed West Valley HCP, as well as the measures the City will undertake to minimize and mitigate the effects of incidental take to the maximum extent practicable. We provide the analysis in the draft EA to inform the public of the proposed action, alternatives, and associated impacts; and to disclose the direct, indirect, and cumulative environmental effects of the proposed action and each of the alternatives. We request public comment on the draft EA and proposed West Valley HCP for the City's proposed activities.

DATES: We will accept comments received or postmarked on or before September 2, 2014.

ADDRESSES: Obtaining Documents: You may use one of the methods below to request printed copies or a CD-ROM of the documents. Please send your requests or comments by any one of the following methods, and specify “West Valley HCP” in your request or comment.

Submitting Comments: You may submit comments or requests for copies or more information by one of the following methods.

• Email: fw8cfwocomments@fws.gov. Include “West Valley HCP” in the subject line of the message.

• U.S. Mail: U.S. Fish and Wildlife Service, Palm Springs Fish and Wildlife Office, Attn: Mr. Kennon A. Corey, Assistant Field Supervisor, 777 East Tahquitz Canyon Way, Suite 208, Palm Springs, CA 92262.

• In-Person Drop-off, Viewing, or Pickup: Telephone 760-322-2070 to make an appointment during regular business hours to drop off comments or view received comments at the address identified above.

• Fax: Mr. Kennon A. Corey, Assistant Field Supervisor, 760-322-4648, Attn: West Valley HCP.

FOR FURTHER INFORMATION CONTACT: Ms. Jenness McBride, Division Chief, Coachella and Imperial Valleys, 777 East Tahquitz Canyon Way, Suite 208, Palm Springs, CA 92262, telephone 760-322-2070. Persons who use a telecommunications device for the deaf (TDD) may call the Federal Information Relay Service (FIRS) at 800-877-8339 to contact the person identified above during normal business hours. The FIRS is available 24 hours a day, 7 days a week, to leave a message or question with the person identified above. You will receive a reply during normal business hours.

SUPPLEMENTARY INFORMATION: We, the U.S. Fish and Wildlife Service (Service), announce the availability of our draft EA for the City of Colton's proposed West Valley HCP, in accordance with the National Environmental Policy Act of 1969, as amended (42 U.S.C. 4321 et seq.; NEPA), and NEPA implementing regulations in the Code of Federal Regulations (CFR) at 40 CFR 1506.6, as well as the availability of the City's 10(a)(1)(B) permit application in compliance with section 10(c) of the Endangered Species Act (Act) of 1973, as amended (16 U.S.C. 1531 et seq.). The draft EA considers the environmental effects associated with issuing the City's requested incidental take permit and implementation of the proposed West Valley HCP, including impacts to the endangered Delhi Sands flower-loving fly (Rhaphiomidas terminatus abdominalis).

Background

Section 9 of the Act (16 U.S.C. 1531 et seq.) and Federal regulations at 50 CFR part 17 prohibit the “take” of fish and wildlife species listed as endangered or threatened. Take of listed fish and wildlife is defined under the Act as to “harass, harm, pursue, hunt, shoot, wound, kill, trap, capture, or collect listed animal species, or to attempt to engage in such conduct” (16 U.S.C. 1538). Harm includes significant habitat modification or degradation that results in death or injury to listed species by significantly impairing essential behavioral patterns, including breeding, feeding, or sheltering (50 CFR 17.3). Under limited circumstances, we may issue permits to authorize incidental take of listed wildlife species, which the Act defines as take that is incidental to, and not the purpose of, the carrying out of otherwise lawful activities.

Regulations governing incidental take permits for threatened and endangered species are at 50 CFR 17.32 and 17.22, respectively. In addition to meeting other criteria, activities covered by an incidental take permit must not jeopardize the continued existence in the wild of federally listed wildlife or plants. The incidental take permit, if issued, would confer assurances to the City regarding the endangered Delhi Sands flower-loving fly under the Service's “No Surprises” regulation at 50 CFR 17.22(b)(5). Take authorization for the Delhi Sands flower-loving fly would become effective upon permit issuance.

We are considering issuing a 30-year permit to the City that would authorize take of the Delhi Sands flower-loving fly incidental to activities described in the City's proposed West Valley HCP. Based on the results of focused surveys, we consider undeveloped portions of the proposed West Valley HCP area, which contain habitat of varying suitability, as occupied by the Delhi Sands flower-loving fly. Therefore, we have determined that the City's proposed activities would result in incidental take of that species. No other federally listed species are known to occupy the West Valley HCP area. The permit, if issued, would authorize incidental take of the Delhi Sands flower-loving fly associated with proposed urban development on approximately 79.4 acres, and with proposed habitat restoration and management of approximately 50.4 acres of on-site conservation areas, located in the City of Colton, San Bernardino County, California.

The West Valley HCP covers an approximately 416.3-acre area in the City of Colton, generally located south of San Bernardino Avenue, north of Valley Boulevard, west of Hermosa Avenue, and east of the City of Colton boundary with the City of Rialto. The West Valley HCP also covers an approximately 5.8-acre portion of East Slover Avenue south of Interstate 10 and west of Pepper Avenue.

Within the West Valley HCP area described above, the City has proposed certain urban development projects as Covered Activities for which the City would receive incidental take authorization under the Service's section 10(a)(1)(B) permit, provided those activities are otherwise lawful. Implementation of covered activities would result in the incidental take of the Delhi Sands flower-loving fly on approximately 79.4 acres of suitable habitat. The City's proposed Covered Activities include the following projects:

(1) New commercial, residential, industrial, and agricultural and/or horticultural development.

(2) Redevelopment programs and projects.

(3) Construction of public or public use facilities and structures, such as public roadways to their ultimate width as identified in the City's General Plan; improvements identified in adopted Transportation Improvement Programs; public utility infrastructure; trails and public access facilities; and other public facilities and projects identified in the City's General Plan.

(4) Ongoing operation, use, and maintenance of public and private facilities in the City.

(5) Restoration, monitoring, and management of existing and proposed conservation areas.

(6) Abandonment of a portion of East Slover Avenue to prevent illegal off-highway vehicle use in adjacent habitat.

(7) Activities undertaken in response to law enforcement and other emergencies.

To minimize and mitigate incidental take of the Delhi Sands flower-loving fly resulting from Covered Activities, the City proposes to set aside approximately 50.4 acres of suitable habitat in four permanent, on-site conservation areas for the species. The City would fund the restoration and management of the conservation areas through development fees and an agreement with the Riverside Land Conservancy, a non-profit land trust. We consider the conservation and management of 50.4 acres would offset the direct impacts of development on 79.4 acres of suitable habitat because the habitat placed in conservation would include the majority of high quality habitat occupied by the Delhi Sands flower-loving fly within the West Valley HCP area. In addition, the configuration of the four proposed conservation areas includes two large, connected blocks of occupied habitat, conservation of habitat contiguous to existing conserved habitat, and connectivity to existing conserved habitat immediately west of the HCP area.

National Environmental Policy Act Compliance

We provide this notice under section 10(c) of the Act and Service regulations for implementing NEPA. We have prepared a draft EA for the proposed action and have made it and the City's permit application available for public inspection (see ADDRESSES). NEPA requires that a range of reasonable alternatives, including the proposed action, be described. The draft EA analyzes three alternatives, which we developed in coordination with the City. The alternatives addressed include (1) the proposed action, which is permit issuance for incidental take associated with covered activities and establishment of on-site conservation areas; (2) an alternative for permit issuance with off-site conservation at the Colton Dunes Conservation Bank; and (3) the no-action alternative, which is no permit issuance and no comprehensive City-initiated HCP or conservation areas.

Public Review

The Service invites the public to comment on the permit application, including the proposed West Valley HCP and draft EA, during the public comment period. Copies of the documents will be available during a 60-day public comment period (see DATES). If you wish to comment, you may submit your comments to the address listed in ADDRESSES. Before including your address, phone number, email address, or other personal identifying information in your comment, you should be aware that your entire comment—including your personal identifying information—may be made publicly available at any time. While you may ask us in your comment to withhold your personal identifying information from public review, we cannot guarantee that we will be able to do so.

Next Steps

Issuance of an incidental take permit is a Federal proposed action subject to compliance with NEPA. We will evaluate the application, associated documents, and any public comments we receive to determine whether the application meets the requirements of NEPA regulations and section 10(a) of the Act. If we determine that those requirements are met, we will issue a permit to the Applicant for the incidental take of Delhi Sands flower-loving fly. We will make our final permit decision no sooner than 60 days from the date of this notice.

Dated: June 27, 2014.
Alexandra Pitts,
Regional Director, Pacific Southwest Region, Sacramento, California.

[FR Doc. 2014-15702 Filed 7-2-14; 8:45 am]

BILLING CODE 4310-55-P